ENVIRONMENTAL PROTECTION AGENCY

[ER-FRL-9041-9]

Environmental Impact Statements; Notice of Availability

Responsible Agency: Office of Federal Activities, General Information (202) 564-7156 or https://www.epa.gov/nepa/.

Weekly receipt of Environmental Impact Statements

Filed 10/15/2018 Through 10/19/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180244, Draft, USFS, CA, Plumas National Forest Over-Snow Vehicle (OSV) Use Designation, Comment Period Ends: 12/10/2018, Contact: Katherine Carpenter (530) 283-7742.

EIS No. 20180250, Final, USAF, NV, Nevada Test and Training Range Land Withdrawal Legislative Environmental Impact Statement, Review Period Ends: 11/26/2018, Contact: Mike Ackerman (210) 925-2741.

EIS No. 20180251, Final, HUD, NJ, Rebuild by Design (RBD) Meadowlands Flood Control Project, Review Period Ends: 11/26/2018, Contact: Dennis Reinknecht (609) 984-0556.

EIS No. 20180252, Final, FHWA, CA, U.S. 50/South Shore Community Revitalization Project, Review Period Ends: 11/26/2018, Contact: Abdelmoez Abdalla (775) 687-1231.

EIS No. 20180253, Final Supplement, FHWA, WI, WIS 23 Fond du Lac to Plymouth, Contact: Ian Chidister (608) 829-7503. Under 23 U.S.C. 139(n)(2), FHWA has issued a single document that consists of a supplemental final environmental impact statement and record of decision. Therefore, the 30-day wait/review period under NEPA does not apply to this action.

EIS No. 20180254, Draft, FERC, AK, Grant Lake Hydropower License, Comment Period Ends: 12/10/2018, Contact: Office of External Affairs (866) 208-3372.

EIS No. 20180255, Final, USN, HI, Hawaii-Southern Californian Training and Testing Final Environmental Impact Statement/Overseas Environmental Impact Statement, Review Period Ends: 11/26/2018,Contact: Nora Macariola-See (808) 472-1402.

EIS No. 20180256, Draft, USACE, TX, Coastal Texas Protection and Restoration Study Draft Integrated Feasibility Report and Environmental Impact Statement, Comment Period Ends: 01/09/2019, Contact: Jennifer Morgan (409) 766-3044.

Amended Notices

EIS No. 20180219, Final, USACE, CA, Delta Islands and Levees Integrated Feasibility Study and Environmental Impact Statement, Review Period Ends: 10/26/2018, Contact: Anne Baker (916) 557-7277. Revision to FR Notice Published 09/21/2018; Extending the Review Period from 10/22/2018 to 10/26/2018.

Dated: October 22, 2018.
Robert Tomiak,
Director, Office of Federal Activities.

[FR Doc. 2018-23342 Filed 10-25-18; 8:45 am]

BILLING CODE 6560-50-P